Proclamation 9159 of August 29, 2014

National Prostate Cancer Awareness Month, 2014

By the President of the United States of America

A Proclamation

Prostate cancer is one of the most common cancers among American men. They are fathers, brothers, and sons—and this year, more than 230,000 of them are expected to be diagnosed with this disease. During National Prostate Cancer Awareness Month, we honor all those whose lives have been touched by this disease, and we renew our commitment to reducing its devastating impact through more effective prevention, detection, and treatment.

Since the mid-1990s, the mortality rate for prostate cancer has fallen, but too many men—an estimated 29,000 this year—will die from this disease, and even more are at risk. Increased awareness can help these men make informed choices about their health. While the exact causes of prostate cancer remain unknown, medical research has identified well-established risk factors with which men should be familiar, including age, family history, and race. I encourage all men, especially those at higher risk, to talk with their doctors about how prostate cancer could affect them.

My Administration continues to invest in critical research to help better prevent this disease and treat it with fewer side effects, and to further our understanding of the disproportionate impact prostate cancer has on African-American men. As part of the Affordable Care Act, more options for quality, affordable health coverage are available and new protections are in place, expanding access to life-saving care for millions of Americans, including those impacted by prostate cancer. Insurance companies can no longer deny coverage due to a pre-existing condition, such as cancer, or deny participation in an approved clinical trial for any life-threatening disease. And men fighting prostate cancer are no longer faced with annual or lifetime dollar limits on coverage that could disrupt their treatments.

Even as we continue the urgent work of improving care, too many lives will be disrupted and too many families will experience the pain of prostate cancer. But we must remain steadfast in our commitment to ease the burden of this disease, and every day we must continue to work toward a future free from cancer in all its forms.

This month, as we come together to raise awareness about prostate cancer, we remember those we lost to this disease. Let us support the patients who continue to battle this cancer each day and the families who stand by their side, and recognize the tireless work of our Nation's health care providers, researchers, and advocates.

NOW, THEREFORE, I, BARACK OBAMA, President of the United States of America, by virtue of the authority vested in me by the Constitution and the laws of the United States, do hereby proclaim September 2014 as National Prostate Cancer Awareness Month. I encourage all citizens, government agencies, private businesses, non-profit organizations, and other groups to join in activities that will increase awareness and prevention of prostate cancer.

IN WITNESS WHEREOF, I have hereunto set my hand this twenty-ninth day of August, in the year of our Lord two thousand fourteen, and of the Independence of the United States of America the two hundred and thirty-ninth.

[FR Doc. 2014-21260

Filed 9-3-14; 11:15 am]

Billing code 3295-F4